DEPARTMENT OF ENERGY

Federal Energy Regulatory Commission

[Docket No. CP17-14-000]

UGI LNG, Inc; Notice of Request for Extension of Time

Take notice that on September 21, 2020, and amended on September 24, 2020, UGI LNG, Inc. (UGI) requested that the Federal Energy Regulatory Commission (Commission) grant an extension of time, until June 21, 2021, to complete construction of its Temple Truck Rack Expansion Project (Project) at its Temple liquefied natural gas (LNG) storage facility located in Ontelaunee Township, Berks County, Pennsylvania, as authorized in the October 18, 2018 Order Issuing Certificate (Certificate Order).¹ Ordering Paragraph B(1) of the Certificate Order required UGI to complete the construction of the proposed Project facilities and make them available for service within one year from of issuance, or by October 18, 2019.²

¹ UGI LNG, Inc., 165 FERC ¶ 62,040 (Certificate Order) (2018).

² Id. at ordering para. (B)(1).

UGI states that it submitted its Implementation Plan for the Project in January 2019, but was unable to request notice to proceed with project construction activities until late June of 2019, as the Commission's Division of LNG Facility Review & Inspection required UGI LNG to submit a significant amount of additional information via phone calls and in-person meetings before work could begin on the Project. After submitting its initial request for notice to proceed, UGI submitted supplemental requests for notices to proceed and supplements to its Implementation Plan on July 10, August 16, and September 5, 2019. UGI LNG was granted full authorization to proceed with construction activities on September 18, 2019. In March 2020, UGI stopped work on the Project due to the Novel Coronavirus Disease (COVID-19) pandemic.

UGI states that it intended to request to extend its certificate authorization prior to October 18, 2019, but failed to do so due to an internal administrative oversight. UGI now belatedly requests an additional nine months, or until June 21, 2020, to complete the authorized construction of the Project facilities and make facilities available for service.

This notice establishes a 15-calendar day intervention and comment period deadline. Any person wishing to comment on UGI's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).³

³ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶

⁴ Contested proceedings are those where an intervenor disputes any material issue of the filing. 18 CFR 385.2201(c)(1) (2020).

⁵ Algonquin Gas Transmission, LLC, 170 FERC ¶ 61,144, at P 40 (2020).

⁶ Id. P 40.

The Commission will not consider arguments that re-litigate the issuance of the April 15th Certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on those extension requests that are uncontested.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on October 19, 2020.

Dated: October 2, 2020.
Kimberly D. Bose,
Secretary.

[FR Doc. 2020-22296 Filed 10-7-20; 8:45 am]

BILLING CODE 6717-01-P